DEPARTMENT OF TRANSPORTATION

Federal Aviation Administration

14 CFR Part 39

[Docket No. 2001-SW-47-AD]

RIN 2120-AA64

Airworthiness Directives; Eurocopter France Model AS332C, L, L1, and Model SA330F, G, and J Helicopters

AGENCY: Federal Aviation Administration, DOT.

ACTION: Notice of proposed rulemaking (NPRM).

SUMMARY: This document proposes superseding an existing airworthiness directive (AD) for Eurocopter France (ECF) Model AS332C, L, and L1 and Model SA330F, G, and J helicopters. That AD currently requires an inspection to determine the angular play of the tail rotor gearbox (gearbox) at specified intervals. This action would change the measurement limits and the load to be applied to a tail rotor blade (blade) when determining the angular play. This proposal is prompted by a review of design data and a determination that the amount of play can be increased with an increase in the amount of applied load during the inspection. The actions specified by the proposed AD are intended to detect excessive angular play and to prevent failure of a gearbox, loss of tail rotor drive, and subsequent loss of control of the helicopter.

DATES: Comments must be received on or before April 15, 2002.

ADDRESSES: Submit comments in triplicate to the Federal Aviation Administration (FAA), Office of the Regional Counsel, Southwest Region, Attention: Rules Docket No. 2001-SW-47-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-47-AD.” The postcard will be date stamped and returned to the commenter.

Availability of NPRMs

Any person may obtain a copy of this NPRM by submitting a request to the FAA, Office of the Regional Counsel, Southwest Region, Attention: Rules Docket No. 2001-SW-47-AD, 2601 Meacham Blvd., Room 663, Fort Worth, Texas 76137.

Discussion

On June 18, 1998, the FAA issued AD 98-06-04, Amendment 39-10633 (63 FR 34790, June 26, 1998) to require an inspection to determine the angular play of the gearbox at specified intervals depending on the amount of play detected. That AD was prompted by an accident involving a Model SA330 helicopter that lost tail rotor drive. An investigation determined that the loss of tail rotor drive was caused by excessive play between the gearbox bevel wheel and the tail rotor driveshaft. The requirements of that AD are intended to prevent failure of the gearbox, loss of tail rotor drive, and subsequent loss of control of the helicopter.

Since the issuance of that AD, ECF has issued Alert Service Bulletin Nos. 05.00.44 and 05.86, both dated January 11, 2001, specifying a check of the angular play of certain gearboxes and to introduce new lower minimum and higher maximum angular play values.

The Direction Generale De L'Aviation Civile (DGAC), which is the airworthiness authority for France, classified these service bulletins as mandatory and issued ADs 1997-332-067(A) R2 and 1997-323-079(A) R2, both dated February 21, 2001, to ensure the continued airworthiness of these helicopters in France.

The DGAC notified the FAA that an unsafe condition may exist on Model AS332 and SA330 helicopters. The DGAC advises of the accident of a Model SA330 helicopter due to loss of the tail rotor drive due to worn splines on the bevel wheel and on the tail rotor drive shaft. The bevel wheel is the output bevel gear in the tail rotor gearbox. The play is measured between the splines of the bevel gear and the tail rotor driveshaft.

These helicopter models are manufactured in France and are type certificated for operation in the United States under the provisions of 14 CFR 21.29 and the applicable bilateral agreement. Pursuant to the applicable bilateral agreement, France has kept the FAA informed of the situation described above. The FAA has examined the findings of the DGAC, reviewed all available information, and determined that AD action is necessary for products of this type design that are certificated for operation in the United States.

We have identified an unsafe condition that is likely to exist or develop on other helicopters of the same type designs. Therefore, the proposed AD would supersede AD 98-06-04 to change the measurement limits and inspection intervals.

The FAA estimates that 4 helicopters of U.S. registry would be affected by this proposed AD, that it would take approximately 3 work hours per helicopter to accomplish the proposed actions, and that the average labor rate is $60 per work hour. Creating measurement tools would cost approximately $100 per helicopter and it would cost $45,000 to replace a gearbox. Based on these figures, the total cost impact of the proposed AD on U.S. operators is estimated to be $1120, assuming no gearbox would need to be replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10633 (63 FR 34790, June 26, 1998), and by adding a new airworthiness directive (AD), to read as follows:

Eurocopter France: Docket No. 2001-SW-47-AD. Supersedes AD 98-06-04, Amendment 39-10633, Docket No. 98-SW-11-AD.

Applicability: Model AS332C, L, and L1 and Model SA330F, G, and J helicopters, with tail rotor gearbox (gearbox), part number (P/N) 332A33-0001-all dash numbers, 330A33-0000-all dash numbers, 330A33-0011-all dash numbers (for AS332 models), or 330A33-9109-all dash numbers (for SA330 models), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To detect excessive angular play in the gearbox and to prevent failure of a gearbox, loss of tail rotor drive, and subsequent loss of control of the helicopter, accomplish the following:

(a) Within 25 hours time-in-service (TIS) for any gearbox with 495 or more hours TIS, inspect each gearbox for play between the splines of the gearbox bevel gear and tail rotor driveshaft in accordance with the Accomplishment Instructions, paragraphs 2.A. through 2.B.4. of Eurocopter France Alert Service Bulletin No. 05.00.44 for the Model AS332 helicopters or No. 05.86 for the Model SA330 helicopters, both Revision 1 and both dated January 11, 2001.

(1) Thereafter, reinspect the gearbox for play:

(i) At intervals not to exceed 520 hours TIS, if the play measurement is 0.30 millimeter (mm) (0.0118 inch) or less for Model SA330 helicopters or 0.44mm (0.0173 inch) or less for Model AS332 helicopters, or

(ii) At intervals not to exceed 100 hours TIS, if the play measurement is greater than 0.30mm and less than 0.65mm (0.0255 inch) for Model SA330 helicopters or greater than 0.44mm and less than 0.75mm (0.0295 inch) for the Model AS332 helicopters.

(2) Before further flight, remove any gearbox if the play measurement is equal to or greater than 0.65mm for Model SA330 helicopters or 0.75mm for Model AS332 helicopters.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits will not be issued.

Note 3: The subject of this AD is addressed in Direction Generale De L'Aviation Civile, (France) ADs 1997-322-067(A) R2 and 1997-323-079(A) R2, both dated February 21, 2001.

Issued in Fort Worth, Texas, on February 6, 2002.
David A. Downey,
Manager, Rotorcraft Directorate, Aircraft Certification Service.

[FR Doc. 02-3581 Filed 2-13-02; 8:45 am]

BILLING CODE 4910-13-P